DEPARTMENT OF TRANSPORTATION

Bureau of Transportation Statistics

[Docket No. BTS-99-6375]

Motor Carrier Financial and Operating Information; Requests for Exemption From Public Release of Reports

AGENCY: Bureau of Transportation Statistics, DOT.

ACTION: Notice.

SUMMARY: Class I and Class II motor carriers of property and household goods are required to file annual and quarterly reports with the Bureau of Transportation Statistics (BTS). As provided by statute, carriers may request that their reports be withheld from public release. On October 25, 1999, BTS invited comments on several requests submitted by carriers (64 FR 57512). BTS has issued its decisions and these are available through the DOT Dockets Management System. Please follow the instructions listed below.

ADDRESSES: You can read BTS's decision on the exemption requests using the DOT Dockets Management System. This is located at the Department of Transportation, 400 Seventh Street, SW., Room PL-401, Washington, DC 20590, and is open from 10 a.m. to 5 p.m., Monday through Friday, except federal holidays. Internet users can access the Dockets Management System at http://dms.dot.gov. Please follow the instructions online for more information and help. The exemption requests and public comments on them are also available through this system.

FOR FURTHER INFORMATION CONTACT: David Mednick, K-1, Bureau of Transportation Statistics, 400 Seventh Street, SW., Washington, DC 20590; (202) 366-8871; fax: (202) 366-3640; e-mail: david.mednick@bts.gov.

Ashish Sen,
Director.

[FR Doc. 00-15846 Filed 6-22-00; 8:45 am]

BILLING CODE 4910-FE-P